DEPARTMENT OF ENERGY

Financial Assistance Award (Grant)

AGENCY: Department of Energy (DOE).

ACTION: Notice of solicitation of applications for grant awards for high-energy density and laser-matter interaction studies.

SUMMARY: Pursuant to 10 CFR 600.8, the DOE announces that it plans to conduct a technically competitive solicitation for basic research experiments in high energy density and laser matter interaction studies at the National Laser Users' Facility (NLUF) located at the University of Rochester Laboratory for Laser Energetics (UR/LLE). Grant Solicitation No. DE-PS03-00SF22056. Universities or other higher education institutions, private sector not-for-profit organizations, or other entities are invited to submit grant applications. The total amount of funding (project cost) expected to be available for Fiscal Years 2001 and 2002 program cycle is $1,400,000. Multiple awards are anticipated under the total budget of $700,000 per year.

FOR FURTHER INFORMATION CONTACT: Janice Williams, Contract Specialist, DOE Oakland Operations Office, 1301 Clay Street, Room 700N, Oakland, CA 94612-5208, Telephone No.: (510) 637-1914, Facsimile No.: (510) 637-2074, E-mail janice.williams@oak.doe.gov.

SUPPLEMENTARY INFORMATION: The solicitation document contains all the information relative to this action for prospective applicants. The solicitation is targeted for release on or about March 31, 2000. The actual work to be accomplished will be determined by the experiments and diagnostic techniques that are selected for award. Proposed experiments and diagnostic techniques will be evaluated through scientific peer review against predetermined, published and available criteria. Final selection will be made by the DOE. It is anticipated that multiple grants will be awarded within the a available funding. The unique resources of the NLUF are available to scientists for state-of-the art experiments primarily in the area of inertial confinement fusion (ICF) and related plasma physics. Other areas such as spectroscopy of highly ionized atoms, laboratory astrophysics, fundamental physics, material science, and biology and chemistry will be considered on a secondary basis. The LLE was established in 1970 to investigate the interaction of high power lasers with matter. Available at the LLE for NLUF researchers is the OMEGA LASER, a 30 kJ UV 60 beam laser system (at 0.35 um) suitable for direct-drive ICF implosions. This system is suitable for a variety of experiments including laser-plasma interactions and atomic spectroscopy. The NLUF program for FY 2001 & FY 2002 is to concentrate on experiments that can be done with the OMEGA laser at the University of Rochester and development of diagnostic techniques suitable for the OMEGA system. Measurements of the laser coupling, laser-plasma interactions, core temperature, and core density are needed to determine the characteristics of the target implosions. Diagnostic techniques could include either new instrumentation, development of analysis tools, or development of targets that are applicable for 30 kJ implosions. Additional information about the facilities and potential collaboration at the NLUF can be obtained from: Dr. John Soures, Manager, National Laser Users' Facility, University of Rochester/LLE, 250 East River Road, Rochester, NY 14623.

Issued in Oakland, CA on March 28, 2000.
Joan Macrusky,
Director, Financial Assistance Center, Department of Energy, Oakland Operations Office.

[FR Doc. 00-8328 Filed 4-4-00; 8:45 am]

BILLING CODE 6450-01-P